DEPARTMENT OF THE INTERIOR

Bureau of Reclamation

New Melones Lake Project Resource Management Plan/Environmental Impact Statement (RMP/EIS), Calaveras and Tuolumne Counties, CA

AGENCY: Bureau of Reclamation, Interior.

ACTION: Notice of intent to prepare an RMP/EIS and notice of public meetings.

SUMMARY: Pursuant to the National Environmental Policy Act (NEPA), the Reclamation Act of 1902, the Reclamation Project Act of 1939, and the Reclamation Recreation Management Act of 1992, the Bureau of Reclamation (Reclamation) proposes to prepare an integrated RMP/EIS for the New Melones Lake Project. Reclamation is the lead federal agency for NEPA. The RMP process is designed to evaluate current and future resource conditions for a management area and to analyze whether updated or new management actions are necessary to attain desired long-term goals.

The public is invited to participate in the planning process by submitting comments during the scoping period and the public comment period on the draft RMP/EIS. Other opportunities to participate will be described during the public scoping meetings.

DATES: Reclamation will host a series of three public scoping meetings to solicit input on the development of alternatives, concerns, and issues to be addressed in the RMP/EIS. The meeting dates and times are:

• Monday, January 29, 2007, 6:30 to 8:30 p.m., Sonora, CA,

• Tuesday, January 30, 2007, 6:30 to 8:30 p.m., Angels Camp, CA,

• Wednesday, January 31, 2007, 6:30 to 8:30 p.m., Manteca, CA.

ADDRESSES: Scoping meetings will be held at:

• Sonora at the Sonora Union High School Cafeteria, 251, South Barretta Street, Sonora, CA,

• Angels Camp at the Brett Harte High School Library, 323 South Main, Angels Camp, CA,

• Manteca at the Manteca High School Cafeteria, 450 East Yosemite Avenue, Manteca, CA.

Written comments on the scope of the proposed RMP/EIS should be sent by close of business on February 16, 2007 to: Ms. Elizabeth Vasquez, Natural Resource Specialist, Central California Area Office, U.S. Bureau of Reclamation, 7794 Folsom Dam Road, Folsom, CA 95630, or e-mail to evasquez@mp.usbr.gov.

FOR FURTHER INFORMATION CONTACT: Ms. Elizabeth Vasquez at 916-989-7192.

SUPPLEMENTARY INFORMATION: In 1976, during planning for construction of the New Melones Dam, a master plan was created to manage the various resources available at New Melones Lake. This plan and a subsequent 1995 draft resource management plan do not fulfill the need for resource management planning, due to the age of the documents, changes in visitor use over the last 30 years, and the accumulation of more complete information about the various resources managed by Reclamation as part of the New Melones Lake Project.

The RMP process is designed to evaluate current and future resource conditions for a management area and to analyze whether updated or new management actions are necessary to attain desired long-term goals. All proposed management actions will be incorporated into a single document that will guide management of biological, social, and physical resources and, when implemented, will result in the desired conditions for the management area. The associated EIS will assess the potential effects of current management actions as well as those proposed under the action alternatives. The final RMP/EIS will reflect the alternative that is deemed most preferable given the range of resources to be managed and the management tools available to Reclamation.

Reclamation has developed a preliminary list of management issues to be addressed in the RMP/EIS. These items include:

• Public health and safety;

• Recreational use;

• Interest groups;

• Traffic and transportation;

• Cultural and archaeological resources;

• Land use, including historic and proposed rights-of-way; and

• Sensitive species and habitats.

This list is not exhaustive and may increase or change as a result of public response during the scoping period.

Additional Information

Persons needing reasonable accommodations in order to attend and participate in the public meeting should contact Ms. Vasquez as soon as possible. In order to allow sufficient time to process requests, please call no later than one week before the meeting. Information regarding this proposed action is available in alternative formats upon request.

During the meetings, Reclamation representatives will present an overview of the project. Those attending the meeting will have the opportunity to submit comments, which Reclamation will consider in the development of alternatives and for analysis of environmental issues that should be addressed in the RMP and EIS. (Additional coordination meetings can be arranged with responsible/cooperating agencies and with special interest groups upon request.)

Letters describing the proposed action and soliciting comments will be sent to the appropriate federal, state, and local agencies and to private organizations and citizens who have expressed an interest or who are known to have an interest in this proposal.

Comments received in response to this notice will become part of the administrative record and are subject to public inspection. Our practice is to make comments, including names, home addresses, home phone numbers, and email addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Michael Nepstad,
Acting Regional Environmental Officer, Mid-Pacific Region.

[FR Doc. E6-21471 Filed 12-15-06; 8:45 am]

BILLING CODE 4310-MN-P